FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier Ocean Transportation Intermediary Applicants

YEZ Shipping Co., Ltd., 199-34 34th Avenue, Bayside, NY 11358, Officers: Angela M. Lazzara, President, (Qualifying Individual), Kathie Chu, Operations Manager

Celestial International Freight, Inc., 2300 E. Higgins Road, Suite #224, Elk Grove Village, IL 60007, Officers: Marilou Pedres, Managing Director/CEO, (Qualifying Individual), Herme G. Pedres, President

Next Day Cargo, Inc., 8805 N.W. 35th Lane, Miami, FL 33172, Officer: Andy Abreu, President, (Qualifying Individual)

Tignes Inc., 7088 N.W. 50th Street, Miami, FL 33166, Officer: Sergio Lemme, President, (Qualifying Individual)

Sky Way Shipping Inc., 357 E. Mooney Drive, Monterey Park, CA 91755, Officer: Zai He (David), Li, President

Non-Vessel Operating Common Carrier and Ocean Freight Forwarder Transportation Intermediary Applicants

IS America, LLC, 30 Vessey Street, 10th Floor, New York, NY 10007, Officers: Edward S. Simioni, Operating Manager, (Qualifying Individual), Pietro Vavasson, Secretary

Transtar Express, Inc., 405 Victory Avenue, Suite D, South San Francisco, CA 94080, Officers: Catherine K. Tse, CEO, Alix K. Co, Secretary, (Qualifying Individuals)

Daily Freight Cargo, Corp., 8426 N.W. 70th Street, Miami, FL 33166, Officers: Pedro David Esteller Rangel, President, (Qualifying Individual), Teresa De Vincenzo, Vice President

Ocean Freight Forwarder—Ocean Transportation Intermediary Applicant

Freight Logistics Services, LLC, 300 Elliott Avenue West, Suite 315, Seattle, WA 98119, Officer: Kathy L. Reeves, General Manager, (Qualifying Individual)

Dated: December 8, 2000.
Bryant L. VanBrakle,
Secretary.

[FR Doc. 00-31764 Filed 12-13-00; 8:45 am]

BILLING CODE 6730-01-P